SMALL BUSINESS ADMINISTRATION

Data Collection Available for Public Comments

ACTION: 60-Day notice and request for comments.

SUMMARY: The Small Business Administration (SBA) intends to request approval, from the Office of Management and Budget (OMB), for the collection of information described below. The Paperwork Reduction Act (PRA) of 1995 requires federal agencies to publish a notice in the Federal Register concerning each collection of information before submission to OMB and to allow 60 days for public comment in response to the notice. This notice complies with that requirement.

DATES: Submit comments on or before September 14, 2020.

ADDRESSES: Send all comments to the U.S. Small Business Administration's Office of Financial Assistance dedicated email box at PPP-IFR@sba.gov.

FOR FURTHER INFORMATION CONTACT: Gregorius Suryardi, Financial and Loan Specialist, Office of Financial Assistance at gregorius.suryardi@sba.gov or Mary Frias, Loan Specialist, Office of Financial Assistance at mary.frias@sba.gov or Curtis B. Rich, Management Analyst, (202) 205-7030, curtis.rich@sba.gov.

SUPPLEMENTARY INFORMATION: Section 1102 of the Coronavirus Aid, Relief, and Economic Security (CARES) Act, Public Law 116-136 (3/27/2020), authorized SBA to guarantee loans made by banks or other financial institutions under a new temporary program titled the “Paycheck Protection Program” (PPP). These loans are available to eligible small businesses; certain non-profit organizations, veterans' organizations, and Tribal business concerns; independent contractors; and self-employed individuals adversely impacted by the COVID-19 emergency. Proceeds of a PPP loan may be used for payroll costs, including costs related to the continuation of group health care benefits during periods of paid sick, medical or family leave, and insurance premiums; rent payments; mortgage interest payments, and payments of interest on other debt incurred prior to February 15, 2020, and to refinance certain SBA Economic Injury Disaster Loans received between January 31, 2020 and April 3, 2020 or used for the same purpose. Under section 1106(b) of the CARES Act, a loan may be forgiven in full or in part if the small business uses the proceeds for payroll costs, payment of interest on a covered mortgage, payment on any covered rent obligation, and any covered utility payment.

In order to make the financial assistance available as expeditiously as possible after the PPP was authorized, SBA obtained emergency approval, including waiver of the 60-day public comment notice, of the information collection necessary to implement the program. That approval will expire on October 30, 2020. SBA will request OMB's approval to extend this expiration date to enable the agency to remain in compliance with the PRA as it continues to collect information from the PPP participants.

(a) Solicitation of Public Comments:

SBA is requesting comments on (i) Whether the collection of information is necessary for the agency to properly perform its functions; (ii) whether the burden estimates are accurate; (iii) whether there are ways to minimize the burden, including through the use of automated techniques or other forms of information technology; and (iv) whether there are ways to enhance the quality, utility, and clarity of the information.

(b) Summary of Information Collection:

Title: Paycheck Protection Program.

OMB Control Number: 3245-0407.

(i) SBA Form 2483, Paycheck Protection Program Borrower Application Form. SBA estimates approximately 6.5 million loan applicants will submit this form (or the lender's equivalent form) to PPP participating lenders to provide information concerning the purpose of the loan, applicant's history of any prior government debt, information regarding 20.0 percent or more owners of the business, including criminal history. The estimated time to complete this form is 8 minutes for a total of 866,667 hours. Lenders will use the information to evaluate whether applicants are eligible to receive a PPP loan and if loan proceeds will be used for eligible purposes.

(ii) SBA Form 2484, Paycheck Protection Program Lender's Application for 7(a) Guaranty. Lenders making PPP loans are required to submit the information concerning the eligibility of each loan applicant and the use of proceeds, and also the loan terms and conditions. SBA estimates that the 7,000 lenders will take about 25 minutes to gather and complete the requested information, for a total estimated burden of 2,708,333 hours. SBA uses the information provided by lenders to ensure the loan was made in compliance with all applicable laws and PPP loan program requirements issued by SBA.

(iii) SBA Form 3506, CARES Act Section 1102 Lender Agreement. This information is submitted by Federally Insured Depository Institutions, federally insured credit unions, and Farm Credit System regulated agricultural lenders (other than the Federal Agricultural Mortgage Corporation) that do not already participate in SBA's 7(a) loan program but are seeking to participate in the PPP. SBA and the Department of Treasury use the information to determine whether the financial institutions meet the eligibility requirements to participate in the PPP. An estimated 1,000 lending institutions will submit this form and will need approximately 10 minutes to review and complete the information for a total estimated burden of 167 hours.

(iv) SBA Form 3507, CARES Act Section 1102 Lender Agreement—Non-Bank and Non-Insured Depository Institution Lenders. This form collects information from depository or non-depository institutions and certain service providers that have contracted with insured depository institutions to support their lending activities. SBA and the Department of Treasury use the information to determine the eligibility of Non-Bank and Non-Insured Depository Institution Lenders to make PPP loans. SBA estimates that 250 institutions will apply and that it will take approximately 25 minutes for them to review, complete and submit the application for a total estimated burden of 104 hours.

(v) SBA Form 3508, Paycheck Protection Program—Loan Forgiveness Application and SBA Form 3508EZ, Paycheck Protection Program—PPP Loan Forgiveness Application Form EZ. PPP borrowers submit the applicable version of these forms (or the lender's equivalent forms) to request forgiveness of all or a portion of the PPP loan. The information is used to determine whether the application meets the criteria for loan forgiveness. SBA estimates that 1.625 million borrowers (or 25.0 percent of all borrowers) will submit the SBA Form 3508 to request forgiveness. The estimated time for each borrower to review and complete this form is 180 minutes for a total estimated burden of 4,875,000 hours. SBA assumes that the remaining 4.875 million borrowers will submit the streamlined Form 3508EZ to request forgiveness. The estimated time for each of these borrowers to complete this form is 20 minutes, for a total estimated burden of 1,625,500 hours.

(vi) [No Form Number] Lender Reporting Requirements Concerning Requests for Forgiveness. Lenders participating in the PPP are required to submit information to SBA to support the requests for forgiveness, including certain information extracted from SBA Form 3508, and to support the Lenders' decision to approve or deny that request for forgiveness. SBA will use the information to determine borrowers' and Lenders' compliance with PPP requirements and the appropriate amount of loan forgiveness. SBA estimates that it will take Lenders about 30 minutes to review the information submitted by the estimated 1.625 borrowers that use SBA Form 3508 and prepare the rationale for its decision. The total estimated burden is 812,500 hours. SBA estimates that it will take Lenders about 15 minutes to review the information submitted by the 4.875 million borrowers that use SBA Form 3508EZ for a total estimated burden of 1,218,750 hours.

(vii) [No Form Number] Lender Reporting for Loan Reviews. PPP loans are subject to review by SBA in its sole discretion, and Lenders are required to submit information to the agency to facilitate the reviews when requested. The information to be collected includes a certified transcript of account, borrower's loan application, application for forgiveness, and all supporting documentation. SBA will use the information to review the eligibility of the borrower, the eligibility of the loan amount and use of loan proceeds, and whether the borrower is eligible for forgiveness in whole or in part. SBA estimates that it will select about 1,025,000 loans for review and that it will take lenders about 30 minutes to compile the information and respond to SBA, for a total estimated burden of 512,500 hours.

Curtis Rich,
Management Analyst.

[FR Doc. 2020-15145 Filed 7-13-20; 8:45 am]

BILLING CODE 8026-03-P